NUCLEAR REGULATORY COMMISSION

[Docket Nos. 50-254 and 50-265]

Exelon Generation Company, LLC; Notice of Issuance of Amendments to Facility Operating Licenses

The U.S. Nuclear Regulatory Commission (Commission) has issued Amendment No. 202 to Facility Operating License No. DPR-29 and Amendment No. 198 to Facility Operating License No. DPR-30, issued to Exelon Generation Company, LLC (the licensee), which revised the Operating License (OL) and Technical Specifications (TS) for operation of the Quad Cities Nuclear Power Station, Units 1 and 2 (QCNPS) located in Rock Island County, Illinois. The amendment is effective as of the date of issuance.

The amendment modified the OL and TS to allow an increase of the authorized operating power level from 2511 megawatts thermal (MWt) to 2957 MWt at QCNPS. The change represents an increase of approximately 17.8 percent above the current rated thermal power and is considered an extended power uprate.

The application for the amendment complies with the standards and requirements of the Atomic Energy Act of 1954, as amended (the Act), and the Commission's rules and regulations. The Commission has made appropriate findings as required by the Act and the Commission's rules and regulations in 10 CFR chapter I, which are set forth in the license amendment.

Notice of Consideration of Issuance of Amendment to Facility Operating License and Opportunity for a Hearing in connection with this action was published in the Federal Register on November 19, 2001 (66 FR 57990). No request for a hearing or petition for leave to intervene was filed following this notice.

The Commission has prepared an Environmental Assessment related to the action and has determined not to prepare an environmental impact statement. Based upon the environmental assessment, the Commission has concluded that the issuance of the amendment will not have a significant effect on the quality of the human environment (66 FR 65759).

Further details with respect to the action may be found in (1) the application for amendment dated December 27, 2000, as supplemented by letters dated February 12, March 20, April 6 and 13, May 3, 18, and 29, June 5, 7, and 15, July 6 and 23, August 7, 8, 9, 13 (two letters), 14 (two letters), 29, and 31 (two letters), September 5, 19, 25, and 27 (two letters), October 17, November 2 (two letters), 16, and 30, and December 10 and 17, 2001, (2) Amendment Nos. 202 and 198 to License Nos. DPR-29 and DPR-30, respectively, (3) the Commission's related Safety Evaluation, and (4) the Commission's Environmental Assessment. Documents may be examined, and/or copied for a fee, at the NRC's Public Document Room, located at One White Flint North, 11555 Rockville Pike (first floor), Rockville, Maryland. Publicly available records will be accessible electronically from the Agencywide Documents Access and Management Systems (ADAMS) Public Electronic Reading Room on the internet at the NRC Web site, http://www.nrc.gov/NRC/ADAMS/index.html. Persons who do not have access to ADAMS or who encounter problems in accessing the documents located in ADAMS should contact the NRC Public Document Room Reference staff by telephone at 1-800-397-4209, 301-415-4737 or by e-mail to pdr@nrc.gov.

Dated at Rockville, Maryland, this 21st day of December, 2001.
For the Nuclear Regulatory Commission.
Stewart N. Bailey,
Project Manager, Section 2, Project Directorate III, Division of Licensing Project Management Office of Nuclear Reactor Regulation.

[FR Doc. 02-74 Filed 1-2-02; 8:45 am]

BILLING CODE 7590-01-P